NATIONAL AERONAUTICS AND SPACE ADMINISTRATION

[Notice: 18-050]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee (PAC). This Committee functions in an advisory capacity to the Director, Planetary Science Division, in the NASA Science Mission Directorate. The meeting will be held for the purpose of soliciting, from the planetary science community and other persons, scientific and technical information relevant to program planning.

DATES: Monday, July 2, 2018, 1:00 p.m. to 5:00 p.m., Eastern Time.

ADDRESSES: The meeting will be held telephonically and via WebEx. Any interested person may dial the USA toll free conference call number 1-800-779-9966 or toll number 1-517-645-6359, passcode 3954829, followed by the # sign, to participate in this meeting. The WebEx link is https://nasa.webex.com/; the meeting number is 994 146 371, password is PAC@July2 (case sensitive).

FOR FURTHER INFORMATION CONTACT: Ms. KarShelia Henderson, Science Mission Directorate, NASA Headquarters, Washington, DC 20546, (202) 358-2355, fax (202) 358-2779, or khenderson@nasa.gov.

SUPPLEMENTARY INFORMATION: The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2018-12307 Filed 6-7-18; 8:45 am]

BILLING CODE 7510-13-P